DEPARTMENT OF HOUSING AND URBAN DEVELOPMENT

[Docket No. FR-5275-N-04]

Native American Housing Assistance and Self-Determination Reauthorization Act of 2008: Notice of Final List of Negotiated Rulemaking Committee Members

AGENCY: Office of the Assistant Secretary for Public and Indian Housing, HUD.

ACTION: Notice.

SUMMARY: On September 23, 2009, HUD published a Federal Register notice establishing the negotiated rulemaking committee that will work with HUD to develop regulatory changes to programs authorized under the Native American Housing Assistance and Self-Determination Act of 1996. Changes to these programs were made by the Native American Housing Assistance and Self-Determination Reauthorization Act of 2008, which also directs that HUD undertake negotiated rulemaking to implement the statutory revisions. The September 23, 2009, notice also announced the names and affiliations of the committee's proposed members and requested public comment on the committee and its proposed membership. Today's notice announces the final list of committee members.

FOR FURTHER INFORMATION CONTACT: Rodger Boyd, Deputy Assistant Secretary for Native American Programs, Office of Public and Indian Housing, Department of Housing and Urban Development, 451 Seventh Street, SW., Room 4126, Washington, DC 20410, telephone number 202-401-7914 (this is not a toll-free number). Hearing- or speech-impaired individuals may access this number via TTY by calling the toll-free Federal Information Relay Service at 1-800-877-8339.

SUPPLEMENTARY INFORMATION:

I. Background

The Native American Housing Assistance and Self-Determination Act of 1996 (25 U.S.C. 4101 et seq.) (NAHASDA) changed the way that housing assistance is provided to Native Americans. NAHASDA eliminated several separate assistance programs and replaced them with a single block grant program, known as the Indian Housing Block Grant (IHBG) program. In addition, Title VI of NAHASDA authorizes federal guarantees for the financing of certain tribal activities (Title VI Loan Guarantee Program). The regulations governing the IHBG and Title VI Loan Guarantee programs are located in part 1000 of HUD's regulations in title 24 of the Code of Federal Regulations. In accordance with section 106 of NAHASDA, HUD developed the regulations with active tribal participation and using the procedures of the Negotiated Rulemaking Act of 1996 (5 U.S.C. 561-570).

The Native American Housing Assistance and Self-Determination Reauthorization Act of 2008 (Pub. L. 110-411, approved October 14, 2008) (NAHASDA Reauthorization) reauthorizes NAHASDA through September 30, 2013, and makes a number of amendments to the statutory requirements governing the IHBG and Title VI Loan Guarantee programs. The NAHASDA Reauthorization amends section 106 of NAHASDA to provide that HUD shall “initiate a negotiated rulemaking in accordance with this section by not later than 90 days after enactment of the [2008 Reauthorization Act].”

On January 12, 2009 (74 FR 1227), HUD published a notice in the Federal Register announcing the initiation of the negotiated rulemaking required by the NAHASDA Reauthorization. On March 2, 2009 (74 FR 9100), HUD published a notice in the Federal Register that commenced the negotiated rulemaking process by soliciting nominations for membership on the negotiated rulemaking committee. The notice provided that the negotiated rulemaking committee must consist of representatives of interests that are potentially affected by the rulemaking, such as tribally designated housing entities, elected officials of tribal governments, and HUD representatives. The notice explained that there was no requirement that each potentially affected organization or entity necessarily have its own representation on the committee. However, HUD noted that the committee, as a whole, must reflect a geographically diverse cross-section of small, medium, and large Indian tribes. The March 2, 2009, notice was followed by a September 23, 2009, notice published in the Federal Register (74 FR 48584) that listed the proposed members of the NAHASDA Reauthorization negotiated rulemaking committee.

II. Discussion of Public Comments

The public comment period for the September 23, 2009, notice ended on October 23, 2009. HUD received 10 public comments. A number of commenters objected that there was no representative of a particular tribe or too few representatives of a category of tribes on the proposed committee. Another commenter found HUD's description of the scope of the subject rule and the interests affected to be insufficiently detailed, and also questioned why HUD is proposing that the committee have a total of 26 members, including HUD. One commenter objected to the inclusion of a particular individual on the committee, while others objected that a particular individual was not included. Finally, HUD received requests from tribes requesting that their nominees, who were included in the proposed committee, be replaced with representatives of the same tribes.

HUD appreciates the interest of the commenters in the composition of the NAHASDA Reauthorization negotiated rulemaking committee. HUD regrets it is unable to include a representative of every tribe or group of tribes on the committee. In order to ensure that the negotiated rulemaking process is workable, the Negotiated Rulemaking Act directs agencies to limit committee composition to no more than 25 members, unless the agency determines that such number cannot achieve the desired balance of interests. (See 5 U.S.C. 565(b).) The Negotiated Rulemaking Act's preference for limiting committees to workable numbers of members means that not every tribe can have its own representative and not every interested and qualified individual can be a member. HUD has determined that allocating all 25 seats to tribal members, and increasing the committee size by two members to accommodate HUD's representatives, maximizes tribal representation. This committee size and allocation are sufficient to satisfactorily achieve the balance of interests, with respect to size and geographical location, that HUD strives to achieve through this committee, while also ensuring that the negotiated rulemaking process remains workable. Although committee membership is limited, committee meetings are open to the public, and HUD welcomes the participation of individuals beyond those who are members of the committee. HUD also notes that, as it has stated in prior notices, affected interests include those of tribally designated housing entities, tribal governments, and tribes of different sizes and geographic locations, and are similar to those involved in previous NAHASDA negotiated rulemaking, which also addressed the distribution of block grant funding for Indian housing and federal guarantees for financing certain tribal activities. Accordingly, HUD proposed a committee whose membership is diverse and that approximates membership from prior NAHASDA negotiated rulemaking committees. Finally, in cases where a tribe or group of tribes requested that its representative be replaced with a substitute, HUD has honored the request.

III. First Committee Meeting

HUD intends to announce the date and location of the first meeting of the NAHASDA Reauthorization negotiated rulemaking committee in a future Federal Register notice.

IV. Final Membership of the Negotiated Rulemaking Committee

Following is the final list of tribal negotiated rulemaking committee members. In making the selections for membership on the negotiated rulemaking committee, HUD's goal was to establish a committee whose membership reflects a balanced representation of Indian tribes. In addition to the tribal members of the committee, there will be two HUD representatives: Sandra B. Henriquez, Assistant Secretary for Public and Indian Housing, and Rodger J. Boyd, Deputy Assistant Secretary for Native American Programs.

The final list of NAHASDA negotiated rulemaking committee members is as follows:

Steven Angasan, King Salmon Tribe, Naknek, Alaska.

Carol Gore, President/CEO, Cook Inlet Housing Authority, Anchorage, Alaska.

Blake Kazama, President, Tlingit-Haida Regional Housing Authority, Juneau, Alaska.

Marty Shuravloff, Executive Director, Kodiak Island Housing Authority, Kodiak, Alaska.

Retha Herne, Executive Director, Akwesasne Housing Authority, Hogansburg, New York.

Ray DePerry, Housing Director, Red Cliff Chippewa Housing Authority, Bayfield, Wisconsin.

Robert Durant, Executive Director, White Earth Reservation Housing Authority, Waubun, Minnesota.

Leon Jacobs, Lumbee Tribe of North Carolina, Mystic, Connecticut.

Susan Wicker, Executive Housing Director, Poarch Band of Creek Indians, Atmore, Alabama.

Jason Adams, Executive Director, Salish Kootenai Housing Authority, Pablo, Montana.

Lafe Haugen, Executive Director, Northern Cheyenne Tribal Housing Authority, Lame Deer, Montana.

Rebecca Phelps, Development Specialist, Turtle Mountain Housing Authority, Belcourt, North Dakota.

S. Jack Sawyers, Paiute Indian Tribe of Utah, Cedar City, Utah.

Marguarite Becenti, Member, Board of Commissioners, Umatilla Reservation Housing Authority, Pendleton, Oregon.

Henry Cagey, The Honorable Chairman, Lummi Nation, Bellingham, Washington.

Larry Coyle, Executive Director, Cowlitz Indian Tribal Housing, Chehalis, Washington.

Karin Foster, Legal Counsel, Yakama Nation Housing Authority, Toppenish, Washington.

Marvin Jones, Manager, Housing Oversight, Cherokee Nation, Tahlequah, Oklahoma.

Thomas McGeisey, Executive Director, Seminole Nation Housing Authority, Wewoka, Oklahoma.

Shawna Pickup, Housing Director/Secretary, Eastern Shawnee Tribe of Oklahoma, Wyandotte, Oklahoma.

Russell Sossamon, Executive Director, Choctaw Nation Housing Authority, Hugo, Oklahoma.

Ervin Keeswood, Member, Navajo Housing Authority Board of Commissioners, Window Rock, Arizona.

Judith Marasco, Executive Director, Yurok Indian Housing Authority, Klamath, California.

Alvin Moyle, The Honorable Chairman, Fallon Business Council, Fallon Paiute-Shoshone Tribe, Fallon, Nevada.

Darlene Tooley, Executive Director, Northern Circle Indian Housing Authority, Ukiah, California.

Dated: December 24, 2009.
Sandra B. Henriquez,
Assistant Secretary for Public and Indian Housing.

[FR Doc. E9-31302 Filed 1-4-10; 8:45 am]

BILLING CODE 4210-67-P